DEPARTMENT OF ENERGY

Federal Energy Regulatory Commission

Notice of Application To Amend License and Soliciting Comments, Motions To Intervene, and Protests

May 30, 2002.

Take notice that the following hydroelectric application has been filed with the Commission and is available for public inspection:

a. Application Type: Change in Project Land Rights and Non-Project Use of Project Lands.

b. Project No.: 1354-031.

c. Date Filed: March 27, 2002.

d. Applicant: Pacific Gas and Electric Company.

e. Name of Project: Crane Valley Project.

f. Location: The project is located on Willow Creek and its tributaries in Madera and Fresno Counties, California. Parts of the project are within the Sierra National Forest on lands the Forest Service manages.

g. Filed Pursuant to: Federal Power Act 16 USC 791(a)-825(r).

h. Applicant Contact: Nicholas J. Markevich, Pacific Gas and Electric Company, Mail Code N11C, P.O. Box 770000, San Francisco, CA 94177.

i. FERC Contact: Steve Naugle, steven.naugle@ferc.gov, 202-219-2805.

j. Deadline for filing comments and or motions: July 1, 2002.

All documents (original and eight copies) should be filed with Magalie R. Salas, Secretary, Federal Energy Regulatory Commission, 888 First Street, NE, Washington, DC 20426. Comments, protests, and interventions may be filed electronically via the Internet in lieu of paper. See, 18 CFR 385.2001(a)(1)(iii) and the instructions on the Commission's Web site under the “e-Filing” link. Please reference the following number, P-1354-031, on any comments or motions filed.

k. Description of the Application: The applicant requests Commission approval to lease certain Crane Valley Project lands to The Pines Resort (lessee) for the proposed expansion of an existing marina on Bass Lake, the project reservoir. Specifically, the lessee proposes to: (1) Relocate and modify various existing marina facilities, including a boat launch ramp, boat docks and slips, and a fuel dock; (2) add new facilities, including additional docks and slips, two observation decks, a seawall and rip rap, and a beach area; and (3) remove accumulated sediments within the footprint for the expanded marina. The marina currently has four docks with approximately 140 boat slips. After completing the proposed improvements, the marina would consist of seven docks with approximately 180 boat slips. The expanded docking facilities would be used by patrons of The Pines Resort.

l. Locations of the Application: Copies of this filing are on file with the Commission and are available for public inspection. This filing may also be viewed on the Web at http://www.ferc.gov using the “RIMS” link, select “Docket#” and follow the instructions (call 202-208-2222 for assistance). A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street NE, Mail Stop PJ-12.1, Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-14147 Filed 6-5-02; 8:45 am]

BILLING CODE 6717-01-P